DEPARTMENT OF TRANSPORTATION

Federal Aviation Administration

14 CFR Part 71

[Docket No. FAA-2004-16989; Airspace Docket No. 04-ACE-7]

Modification of Class E Airspace; Hays, KS

AGENCY: Federal Aviation Administration (FAA), DOT.

ACTION: Direct final rule; request for comments; correction.

SUMMARY: This action corrects a direct final rule; request for comments that was published in the Federal Register on Friday, March 5, 2004, (69 FR 10330) [FR Doc. 04-5026]. It corrects an erroneously cited reference.

DATES: This direct final rule is effective on 0901 UTC, June 10, 2004.

FOR FURTHER INFORMATION CONTACT: Kathy Randolph, Air Traffic Division, Airspace Branch, ACE-520C, DOT Regional Headquarters Building, Federal Aviation Administration, 901 Locust, Kansas City, MO 64106; Telephone: (816) 329-2525.

SUPPLEMENTARY INFORMATION:

History

Federal Register document 04-5026, published on Friday, March 5, 2004, (69 FR 10330) modified Class E2 and Class E5 airspace areas at Hays, KS. The modification corrected discrepancies in the Hays Regional Airport airport reference point, expanded the areas by .1 mile, redefined the extensions to the airspace areas and brought the legal descriptions of Hays, KS Class E airspace areas into compliance with FAA Order 7400.2E, Procedures for Handling Airspace Matters. However, the date and effective date of cited FAA Order 7400.9L, Airspace Designations and Reporting Points, was published incorrectly.

Accordingly, pursuant to the authority delegated to me, the date and effective date of cited FAA Order 7400.9L, as published in the Federal Register on Friday, March 5, 2004, (69 FR 10330) [FR Doc. 04-5026] is corrected as follows:

§ 71.1 [Corrected]

On page 10331, Column 1, paragraph headed “§ 71.1 [Amended],” fourth line and fifth line, change “August 30, 2002, and effective September 16, 2002, is amended as” to read “September 2, 2003, and effective September 16, 2003, is amended as.”

Issued in Kansas City, MO, on March 9, 2004.
Paul J. Sheridan,
Acting Manager, Air Traffic Division, Central Region.

[FR Doc. 04-6751 Filed 3-25-04; 8:45 am]

BILLING CODE 4910-13-M